DEPARTMENT OF THE INTERIOR

National Park Service

National Register of Historic Places; Notification of Pending Nominations

Nominations for the following properties being considered for listing in the National Register were received by the National Park Service before June 14, 2003.

Pursuant to § 60.13 of 36 CFR part 60 written comments concerning the significance of these properties under the National Register criteria for evaluation may be forwarded by United States Postal Service, to the National Register of Historic Places, National Park Service, 1849 C St. NW., 2280, Washington, DC 20240; by all other carriers, National Register of Historic Places, National Park Service,1201 Eye St. NW., 8th floor, Washington DC 20005; or by fax, 202-371-6447. Written or faxed comments should be submitted by July 24, 2003.

Carol D. Shull,
Keeper of the National Register of Historic Places.

DISTRICT OF COLUMBIA

District of Columbia

Grummell, Alexander, School, (Public School Buildings of Washington, DC MPS) Kendall and Gallaudet Sts, NE., Washington, 03000671

Massachusetts Avenue Parking Shops, 4841-4861 Massachusetts Ave. NW., Washington, 03000670

Military Road School, (Public School Buildings of Washington, DC MPS) 1375 Missouri Ave., NW., Washington, 03000674

Syphax, William, School, (Public School Buildings of Washington, DC MPS) 1360 Half St., SW., Washington, 03000672

Western High School, (Public School Buildings of Washington, DC MPS) 35th and R Sts., NW., Washington, 03000673

GEORGIA

Camden County

Greyfield, (Cumberland Island National Seashore MRA) Cumberland Island, Camden, 03000675

Early County

Bank of Jakin, 135 S. Pearl St., Jakin, 03000678

Fulton County

Howell Interlocking Historic District, Roughly centered on Howell Interlocking at Marietta, W. Marietta Sts., Howell Mill Rd. and Lowery Blvd., Atlanta, 03000676

Thomas County

East End Historic District (Boundary Increase and Decrease), Roughly bounded by Metcalf Ave., Simeon St., Grady St., and East Loomis St., Thomasville, 03000677

Worth County

Poulan Library, S side of 100 blk. of Church St., Poulan, 03000679

LOUISIANA

St. James Parish

Chauvin House, (Louisiana's French Creole Architecture MPS) 10138 LA 44, Convent, 03000681

West Feliciana Parish

Star Hill Plantation Dependency, 5018 U.S. 61, Star Hill, 03000680

MASSACHUSETTS

Middlesex County

Flint House, 28 Lexington Rd., Lincoln, 03000684

Robbins, John, House, 144 Great Rd., Acton, 03000682

Worcester County

North Avenue Rural Historic District, 85-147 North Ave., 6-8 Trask Rd., 4-16 Hopedale St., Mendon, 03000683

Spencer Town Center Historic District (Boundary Increase), 10-29 Grove, 1-51 High, 9-85 Mechanic,13-72 Pleasant, 5-62 Wall Sts., and parts of Prouty, Lincoln, Cherry and Jones St., Spencer, 03000685

MICHIGAN

Kent County

American Seating Company Factory Complex, 801 Broadway Ave. NW., Grand Rapids, 03000687

MISSISSIPPI

Attala County

Storer House, 300 N. Huntington St., Kosciusko, 03000688

Panola County

Batesville Historic District, Roughly along Panola Ave., Boothe, Court, Church, Central, Kyle, Baker and Lester Sts., Batesville, 03000686

MONTANA

Lewis and Clark County

Benton Avenue Cemetery, 1800 N. Benton Ave., Helena, 03000689

NEW MEXICO

Santa Fe County

Schmidt, Albert, House and Studio, 1505 A and B Bishop's Lodge Rd., Tesuque, 03000691

NEW YORK

Ontario County

Barden, Levi, Cobblestone Farmhouse, (Cobblestone Architecture of New York State MPS) 5300 Wabash Rd., Seneca, 03000690

OREGON

Benton County

Corvallis High School, 836 NW 11th St., Corvallis, 03000692

Washington County

Waggener, JS and Melinda, Farmstead, 34680 SE Firdale Rd., Cornelius, 03000693

SOUTH CAROLINA

Spartanburg County

Bush House, 3960 New Cut Rd., Inman, 03000695

TENNESSEE

Anderson County

Briceville Community Church and Cemetery, TN 116, Briceville, 03000697

Sevier County

New Salem Baptist Church, (Rural African-American Churches in Tennessee MPS) 601 Eastgate Rd., Sevierville, 03000696

WISCONSIN

Dane County

East End Historic District, 7002-7016 Hubbard Ave., 1812-1916 Park St. (even only) 7002-7227, 7233, 7235, 7237 Elmwood Ave., Middleton, 03000699

Eau Claire County

Carson Park Baseball Stadium, Carson Park Dr., Carson Park, Eau Claire, 03000698

[FR Doc. 03-17267 Filed 7-8-03; 8:45 am]

BILLING CODE 4312-51-P